DEPARTMENT OF STATE

[Public Notice 6657]

Notice of Availability of the Final Environmental Impact Statement; Enbridge Energy, Limited Partnership (“Alberta Clipper Project”)

AGENCY: Department of State.

ACTION: Notice of Availability of the Final Environmental Impact Statement; Enbridge Energy, Limited Partnership (“Alberta Clipper Project”).

SUMMARY: Enbridge Energy, Limited Partnership (“Enbridge”) has applied to the Department of State for a Presidential Permit, pursuant to Executive Order 13337 of April 30, 2004, to construct, connect, operate, and maintain a 36-inch diameter crude oil and liquid hydrocarbon pipeline at the U.S.-Canadian border near Neche, Pembina County, North Dakota, for the purpose of transporting liquid hydrocarbons and other petroleum products between the United States and Canada. Enbridge seeks this authorization in connection with its Alberta Clipper Pipeline, which is designed to transport Canadian crude oil from the Western Canadian Sedimentary Basin (“WCSB”) to existing refinery markets in the Midwest region of the United States. The Department of State has prepared a final Environmental Impact Statement (EIS) for the United States portion of the proposed Alberta Clipper Pipeline (“Proposed Project”).

The Secretary of State is designated and empowered to receive all applications for Presidential Permits, as referred to in Executive Order 13337, as amended, for the construction, operation, and maintenance, at the borders of the United States, of facilities for the exportation or importation of petroleum, petroleum products, coal, or other fuels to or from a foreign country. Any person wishing to comment on the final EIS may do so. To ensure consideration prior to a Department of State decision on the Enbridge proposal, it is important that we receive comments no later than July 3, 2009.

SUPPLEMENTARY INFORMATION: The final EIS was prepared in conformity with the requirements of the National Environmental Policy Act (NEPA) and to evaluate the potential environmental impacts of the United States portion of the proposed pipeline. The document also evaluates alternatives to the proposal, including system alternatives and pipeline route alternatives.

The federal cooperating agencies for the development of this EIS are: U.S. Army Corps of Engineers; U.S. Fish and Wildlife Service; U.S. Department of Agriculture—Farm Service Agency, Natural Resources Conservation Service; U.S. Department of the Interior, Bureau of Indian Affairs; and the U.S. Environmental Protection Agency. In addition, two Indian Bands are acting as cooperating agencies for this EIS: the Fond du Lac Band of Lake Superior Chippewa; and the Leech Lake Band of Ojibwe Indians. Cooperating agencies either have jurisdiction by law or special expertise with respect to the environmental impacts assessed in connection with the proposal and are involved in the Department's analysis of those environmental impacts.

The Alberta Clipper pipeline would be a new pipeline that would transport crude oil from Enbridge's existing facilities in Hardisty, Alberta, Canada to its existing terminal in Superior, Wisconsin. From there, the liquid hydrocarbons would be transported to Midwestern markets, the eastern United States and Canada, and the Midcontinent and U.S. Gulf markets. Crude oil would be transported to markets in the Midwest via Enbridge's Lakehead System, which is currently being expanded, and potentially through pipelines that may be constructed in the future. The pipeline would be designed to transport an average crude oil volume of approximately 450,000 bpd.

The Proposed Project would consist of approximately 326.9 miles of new 36-inch-diameter pipeline and associated facilities installed primarily within or adjacent to existing Enbridge pipeline corridors. The Proposed Project also would require new construction at existing pump stations and construction of delivery facilities and mainline valves. The pipeline would have the capacity to deliver an average of 450,000 barrels per day (bpd) of heavy crude oil from a supply hub near Hardisty to an existing terminal in Superior. In Canada, the pipeline includes approximately 673 miles of new pipeline and associated facilities from Hardisty to the U.S./Canada border near Neche, North Dakota. The Canadian portion of the Alberta Clipper pipeline system has been approved by the Canadian National Energy Board and other Canadian reviewing entities, and is under construction.

Approximately 82 percent of the proposed pipeline route in the United States would be within or adjacent to an existing Enbridge pipeline corridor. The existing corridor houses six pipelines between the U.S./Canada border and Clearbrook, Minnesota (including the Southern Lights LSr Project pipeline which began construction in summer 2008), and four existing pipelines between Clearbrook and Superior. The existing pipelines transport crude oil or petroleum products. A fifth pipeline has been proposed for the corridor between Clearbrook and Superior, and Enbridge proposes to construct it concurrently with the Alberta Clipper Project pipeline.

Enbridge proposes to begin construction activities for the Project in summer 2009, with a planned in-service date of early 2010, subject to receipt of all necessary permits, approvals, and authorizations pursuant to DOS regulations (40 CFR 1500-1508 and 22 CFR 161).

As a separate but connected action to the Proposed Project, Enbridge is proposing to construct, operate, and maintain the Superior Terminal Expansion Project. This project would consist of five new 250,000-barrel storage tanks and associated piping and facilities at the existing Enbridge terminal. The Superior Terminal Expansion Project is not part of the Presidential Permit Application submitted to DOS and would be permitted separately from the Alberta Clipper Project.

Construction of the Proposed Project would generally require a 140-foot-wide construction right-of-way to allow temporary storage of topsoil and spoil and to accommodate safe operation of construction equipment. Enbridge would retain a portion of the construction right-of-way in order to maintain a 75-feet right-of-way from the current outermost pipeline.

The Proposed Project would not require construction of new pump stations. Mainline valves would be installed along the pipeline to limit the volume of a spill if one were to occur. Enbridge conducted an analysis to determine the most appropriate locations for mainline valves in compliance with the requirements of 49 CFR Part 195. Construction of the pipeline would require establishment of rail unloading sites for delivery of pipe and contractor/pipe storage yards at locations near the construction right-of-way to temporarily store pipe and the contractor's vehicles, equipment, tools, and other construction-related items. Rail unloading areas would be located adjacent to railroad sidings. Enbridge would need to gain access to the construction right-of-way during pipeline installation and the permanent right-of-way during operation. In general, Enbridge would use existing public roads to gain access to the construction right-of-way as much as possible. In areas where public roads are limited, existing privately owned roads may be used for access, provided that Enbridge receives permission from the landowners. If neither public nor privately owned roads are available, Enbridge would construct new access roads that typically would be approximately 10 to 30 feet wide.

U.S. States and counties that could possibly be affected by construction of the proposed pipeline are:

• North Dakota: Pembina;

• Minnesota: Kittson, Marshall, Pennington, Red Lake, Polk, Clearwater, Beltrami, Hubbard, Cass, Itasca, Aitkin, St. Louis, Carlton; and

• Wisconsin: Douglas.

Comment Procedures and Public Meetings: Any person wishing to comment on the final EIS may do so. To ensure consideration prior to a Department of State decision on the proposal, it is important that we receive your comments no later than July 3, 2009.

Options for submitting comments on the Final EIS are as follows:

• By mail to: Elizabeth Orlando, Alberta Clipper Project Manager, U.S. Department of State, OES/ENV Room 2657, Washington, DC 20520.

Please note that Department of State mail can be delayed due to security screening.

• Fax to: (202) 647-5947, attention Elizabeth Orlando.

• E-mail to: albertaclipperEIS@state.gov.

• Comment over the Internet via the Alberta Clipper EIS Web site: http://www.albertaclipper.state.gov.

Comments received will be included in the public docket without change and may be made available on-line at http://www.albertaclipper.state.gov, including any personal information provided, unless the commenter indicates that the comment includes information claimed to be Confidential Business Information (CBI) or other information whose disclosure is restricted by statute. Do not submit information that you consider to be CBI, or otherwise protected, through e-mail. If you send a comment by e-mail, your e-mail address will be automatically captured and included as part of the comment that is placed in the public docket and made available on the Internet. If you submit an electronic comment, we recommend that you include your name and other contact information in the body of your comment and with any disk or CD-ROM you submit. If we cannot read your comment because of technical difficulties and cannot contact you for clarification, we may not be able to consider your comment. Electronic comments should avoid the use of any special characters, any form of encryption, and be free of any defects or viruses.

Copies of the final EIS have been mailed to interested federal, tribal, state and local agencies; public interest groups; individuals and affected landowners who requested a copy of the final EIS or provided comments during the scoping process; libraries; newspapers; and other stakeholders.

FOR FURTHER INFORMATION CONTACT: The Enbridge application for a Presidential Permit, including associated maps and drawings, the final EIS; a list of libraries where the final EIS may be reviewed; and other project information is available for viewing and download at the project Web site: http://www.albertaclipper.state.gov.

For information on the proposed project or the final EIS contact Elizabeth Orlando, OES/ENV Room 2657, U.S. Department of State, Washington, DC 20520, or by telephone (202) 647-4284, or by fax at (202) 647-5947.

Daniel Fantozzi,
Director, Bureau of Oceans and International Environmental and Scientific Affairs/Office of Environmental Policy, Department of State.

[FR Doc. E9-13335 Filed 6-5-09; 8:45 am]

BILLING CODE 4710-07-P